DEPARTMENT OF COMMERCE

National Oceanic and Atmospheric Administration

RIN 0648-XB012

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene its Special Coral Scientific and Statistical Committee.

DATES: The meeting will convene at 8:30 a.m. on Thursday, March 8, 2012 and conclude no later than 4:30 p.m.

ADDRESSES: The meeting will be held at the Gulf of Mexico Fishery Management Council, 2203 N. Lois Avenue, Suite 1100, Tampa, FL 33607.

Council address: Gulf of Mexico Fishery Management Council, 2203 North Lois Avenue, Suite 1100, Tampa, FL 33607.

FOR FURTHER INFORMATION CONTACT: John Froeschke, Fishery Biologist and Mark Mueller, GIS Analyst, Gulf of Mexico Fishery Management Council; telephone: (813) 348-1630.

SUPPLEMENTARY INFORMATION: The Gulf of Mexico Fishery Management Council (Council) will convene the Special Coral Scientific and Statistical Committee to discuss and provide expert guidance to Council staff on two projects being conducted as part of a NOAA Coral Reef Conservation Program grant that address the relationship between trends in coral reef communities and their associated fisheries. The first project involves development of a publicly-accessible spatial database of Gulf of Mexico corals (shallow, mesophotic and deep sea) and related fisheries information that will be used to enhance spatial planning and management actions. The Committee will be asked to provide expert advice and recommendations about datasets and data sources as well as data gaps and needs. The second project involves convening a workshop of respected coral experts and managers to examine the interrelationships between corals and fisheries relative to long-term trends in coral condition. The Committee will be asked to provide expert advice and recommendations about participants and various potential conference topics including threats to coral health, management, coral habitats, habitat suitability models, and emerging research.

Copies of the agenda and other related materials can be obtained by calling (813) 348-1630 or can be downloaded from the Council's ftp site, ftp.gulfcouncil.org.

Although other non-emergency issues not on the agenda may come before the Special Coral Scientific and Statistical Committee for discussion, in accordance with the Magnuson-Stevens Fishery Conservation and Management Act, those issues may not be the subject of formal action during this meeting. Actions of the Special Coral Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: February 15, 2012.
Tracey L. Thompson,
Acting Director, Office of Sustainable Fisheries, National Marine Fisheries Service.

[FR Doc. 2012-3874 Filed 2-17-12; 8:45 am]

BILLING CODE 3510-22-P